DEPARTMENT OF THE TREASURY

Agency Information Collection Activities; Proposed Collection; Comment Request; Departmental Offices (DO) Information Collection Request

AGENCY: Departmental Offices, U.S. Department of the Treasury.

ACTION: Notice and request for comments.

SUMMARY: The Department of the Treasury, as part of its continuing effort to reduce paperwork and respondent burden, invites the general public and other Federal agencies to comment on revisions to an existing information collection, as required by the Paperwork Reduction Act of 1995. The Office of the Fiscal Assistant Secretary, within the Department of the Treasury, is soliciting comments concerning the application, reports, and recordkeeping for the Direct Component and the Centers of Excellence Research Grants Programs under the Resources and Ecosystems Sustainability, Tourist Opportunities, and Revived Economies of the Gulf Coast States Act of 2012 (RESTORE Act). The information collection for which comments are solicited are already a part of the approved collection for RESTORE Act grants, including the two BABAA Waiver Request Forms, which implement the Build America, Buy America Act (“BABAA”).

DATES: Written comments must be received on or before August 23, 2023 to be assured of consideration.

ADDRESSES: Written comments and recommendations for the proposed information collection should be sent within 30 days of publication of this notice to www.reginfo.gov/public/do/PRAMain. Find this particular information collection by selecting “Currently under 30-day Review—Open for Public Comments” or by using the search function.

Copies of the submissions may be obtained from Melody Braswell by emailing PRA@treasury.gov, calling (202) 622-1035, or viewing the entire information collection request at www.reginfo.gov.

SUPPLEMENTARY INFORMATION:

Departmental Offices (DO)

Title: Application, Reports, and Recordkeeping for the Direct Component and the Centers of Excellence Research Grants Program under the RESTORE Act.

OMB Control Number: 1505-0250.

Type of Review: Revision of a currently approved collection.

Description: The Department of the Treasury administers the Direct Component and the Centers of Excellence Research Grants Program authorized under the RESTORE Act. Treasury awards grants for these two programs from proceeds in connection with administrative and civil penalties paid after July 6, 2012, under the Federal Water Pollution Control Act relating to the Deepwater Horizon Oil Spill and deposited into the Gulf Coast Restoration Trust Fund. Direct Component grants are awarded to the States of Alabama, Louisiana, Mississippi, and Texas, and 23 Florida counties and 20 Louisiana parishes. Centers of Excellence grants are awarded to the States of Alabama, Florida, Louisiana, Mississippi, and Texas. The information collection for both programs identifies the eligible recipients; describes proposed activities; determines an appropriate amount of funding; ensures compliance with the RESTORE Act, Treasury's regulations, and Federal laws and policies on grants; tracks grantee progress; and reports on the effectiveness of the programs.

Section 70914(a) of BABAA prohibits Direct Component recipients (and subrecipients, as applicable) from using RESTORE Act funds to purchase foreign-sourced iron, steel, manufactured products, or construction materials unless Treasury approves a waiver pursuant to section 70914(b) of BABAA. On January 13, 2023, Treasury received emergency clearance from OMB to update the approved collection and add two new forms for recipients to submit requests to waive the new domestic preference requirements under BABAA. Treasury requested an emergency clearance for the forms to be completed by January 13, 2022, which was the expiration date of Treasury OGCR's six-month general applicability public interest adjustment period waiver and therefore was the effective date of BABAA requirements for RESTORE Act Direct Component program. The Agency was delayed in requesting the clearance from OIRA because the required waiver information that must be collected by agencies for cross-posting waivers to the GSA-managed Made in America Office (MIAO) website was finalized on December 8, 2022. Posting waivers on the centralized waiver transparency website is a requirement for federal agencies to be compliant with the implementation of BABAA. Treasury now seeks clearance through the normal 60-day public comment process for clearance under the Paperwork Reduction Act of the updated information collection as required by 5 CFR 1320.8(d).

Treasury has also made substantive changes to the Multiyear Implementation Plan Narrative Form through a consolidation of application questions to reduce requests for duplicative information and revised the requirements of the Milestones and Measures Application Form, Milestones Report and Status of Performance Report that reduces the burden on the applicant to demonstrate progress made to achieve the scope of work. No other changes to the information collection are proposed by Treasury at this time.

The revised application forms and supplemental information may be obtained on Treasury's RESTORE Act website at https://home.treasury.gov/policy-issues/financial-markets-financial-institutions-and-fiscal-service/restore-act.

Form Number: None.

Affected Public: State and Local Governments.

Estimated Number of Respondents: 52.

Frequency of Response: On Occasion.

Estimated Total Number of Annual Responses: 563

Estimated Time per Response: 11.3 hours.

Estimated Total Annual Burden Hours: 6,340.

Authority: 44 U.S.C. 3501 et seq.

Melody Braswell,
Treasury PRA Clearance Officer.

[FR Doc. 2023-15617 Filed 7-21-23; 8:45 am]

BILLING CODE 4810-AK-P